DEPARTMENT OF LABOR

Employment and Training Administration

[TA-W-63,506]

SAPA Fabricated Products, Magnolia, AR; Notice of Termination of Investigation

Pursuant to Section 221 of the Trade Act of 1974, as amended, an investigation was initiated on June 9, 2008, in response to a petition filed by the Arkansas State Workforce Office on behalf of the workers at SAPA Fabricated Products, Magnolia, Arkansas.

The petitioner has requested that the petition be withdrawn. Consequently, the investigation has been terminated.

Signed at Washington, DC, this 18th day of July 2008.
Richard Church,
Certifying Officer, Division of Trade Adjustment Assistance.

[FR Doc. E8-17135 Filed 7-25-08; 8:45 am]

BILLING CODE 4510-FN-P